DEPARTMENT OF HEALTH AND HUMAN SERVICES

Administration for Children and Families

[OMB #0970-0466]

Expedited OMB Review and Public Comment: Information Collection Activity; Initial Medical Exam Form and Initial Dental Exam Form

AGENCY: Office of Refugee Resettlement; Administration for Children and Families; Department of Health and Human Services.

ACTION: Request for public comment.

SUMMARY: The Office of Refugee Resettlement (ORR), Administration for Children and Families (ACF), U.S. Department of Health and Human Services (HHS), is requesting expedited review of an information collection request from the Office of Management and Budget (OMB) and inviting public comments on the proposed revisions. The request consists of the addition of questions to the Initial Medical Exam Form to track instances of COVID-19.

DATES: Comments due within 60 days of publication. In compliance with the requirements of Section 3506(c)(2)(A) of the Paperwork Reduction Act of 1995, the Administration for Children and Families is soliciting public comment on the specific aspects of the information collection described in this notice.

ADDRESSES: Copies of the proposed collection of information can be obtained by emailing infocollection@acf.hhs.gov. All requests should identify the title of the information collection. Written comments and recommendations for the proposed information collection should be sent directly to the following: Administration for Children and Families, Paperwork Reduction Project, Email: infocollection@acf.hhs.gov, Attn: Desk Officer for the Administration for Children and Families.

SUPPLEMENTARY INFORMATION:

Description: ACF is requesting that OMB grant a 180-day approval for this request under procedures for expedited processing. A request for review under normal procedures will be submitted within 180 days of the approval for this request. Any edits resulting from public comment will be incorporated into the submission under normal procedures. The Initial Medical Exam Form is to be updated in response to the COVID-19 outbreak. Three fields were added to capture travel history, COVID-19 diagnosis, and related public health interventions.

Respondents: ORR Grantee Staff.

Annual Burden Estimates: The following burden estimates were previously approved by OMB for data collection under OMB #0970-0466. The addition of these data elements does not increase reporting or record keeping burden.

Estimated Opportunity Burden for Respondents
Instrument | Number of respondents | Number of responses per respondent | Average burden hours per response | Total burden hours
Initial Medical Exam Form (including Appendix A: Supplemental TB Screening Form) | 150 | 297 | 0.22 | 9,801

Total: 9,801.

Estimated Recordkeeping Burden for Respondents
Instrument | Number of respondents | Number of responses per respondent | Average burden hours per response | Total burden hours
Initial Medical Exam Form (including Appendix A: Supplemental TB Screening Form) | 150 | 297 | 0.08 | 3,564

Total: 3,564.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 6 U.S.C. 279: Exhibit 1, part A.2 of the Flores Settlement Agreement (Jenny Lisette Flores, et al., v. Janet Reno, Attorney General of the United States, et al., Case No. CV 85-4544-RJK [C.D. Cal. 1996])

Mary B. Jones,
ACF/OPRE Certifying Officer.

[FR Doc. 2020-05624 Filed 3-17-20; 8:45 am]

BILLING CODE 4184-45-P